DEPARTMENT OF ENERGY

Federal Energy Regulatory Commission

[Docket No. DI24-6-000]

Paradigm Shift Hydro, LLC; Notice of Effectiveness of Withdrawal of Declaration of Intention

On December 5, 2023, Paradigm Shift Hydro, LLC (Paradigm Shift) filed a Declaration of Intention (DI) concerning the Commission's licensing jurisdiction for the proposed Last Chance Energy Project, a closed-loop pumped storage hydropower facility to be located near the town of Alpine in Brewster and Jeff Davis Counties, Texas. On August 12, 2025, Paradigm Shift filed a notice withdrawing the DI.

No motion in opposition to the notice of withdrawal has been filed, and the Commission has taken no action to disallow it. Accordingly, pursuant to Rule 216(b) of the Commission's Rules of Practice and Procedure,¹ the withdrawal of the application became effective on August 27, 2025.

¹ 18 CFR 385.216(b) (2024).

Dated: August 29, 2025.
Debbie-Anne A. Reese,
Secretary.

[FR Doc. 2025-16956 Filed 9-3-25; 8:45 am]

BILLING CODE 6717-01-P